DEPARTMENT OF HOMELAND SECURITY

[Docket No. DHS-2013-0027]

P25 Compliance Assessment Program for Communications Equipment

AGENCY: Science and Technology Directorate, Department of Homeland Security.

ACTION: Notice.

SUMMARY: The Department of Homeland Security is seeking Expressions of Interest from laboratory accreditation bodies, which are International Laboratory Accreditation Cooperation (ILAC) Full Members and signatories to the ILAC mutual recognition arrangements (MRAs) and which are capable of providing accreditation services for laboratories participating in the Project 25 (P25) Compliance Assessment Program (P25 CAP).

P25 is a standard which enables interoperability among digital two-way land mobile radio communications products created by and for public safety professionals. P25 CAP is a formal, independent process for ensuring that communications equipment that is declared by the manufacturer to be P25 compliant in fact meets P25 standards. Accreditation of the test laboratories that carry out the compliance assessment is currently conducted by P25 CAP itself, but DHS is considering a transition to compliance assessment by third-party laboratory accreditation organizations.

As a first step in the process, the DHS is gauging interest from laboratory accreditation bodies. This Request for Expressions of Interest (REI) is for information and planning purposes only. It is not a broad agency announcement, Request for Proposals or Quotations, or other form of solicitation for bids, and it is not a commitment or obligation by DHS to make award of any contractual instrument or make any payment.

DATES: May 28, 2013.

ADDRESSES: Expressions of interest should be submitted to SandTFRG@hq.dhs.gov.

FOR FURTHER INFORMATION CONTACT: Cuong Luu, Program Manager, Office for Interoperability and Compatibility, U.S. Department of Homeland Security, tel: 202-254-6374, cuong.luu@hq.dhs.gov.

SUPPLEMENTARY INFORMATION:

Background

P25 is a standards development process for the design, manufacture, and evaluation of interoperable digital two-way land mobile radio communications products created by and for public safety professionals. The goal of P25 is to specify formal standards for interfaces between the various components of a land mobile radio system commonly used by emergency responders in portable handheld and mobile vehicle-mounted devices. The P25 standard enables interoperability among different manufacturers' products.

P25 CAP was developed by DHS and the National Institute of Standards and Technology (NIST) to identify equipment that complies with P25 standards. P25 CAP provides first responders with documentation of interoperability they need to inform their purchasing decisions. P25 CAP is a voluntary program that allows manufacturers to publicly attest to their products' compliance with P25 standards through a Suppliers' Declaration of Compliance Document (SDoC), substantiated by an Official Summary Test Report. P25 CAP makes these documents available to the first response community on the Federal Emergency Management Agency's (FEMA) Responder Knowledge Base (RKB) Web site at http://www.rkb.us.

P25 CAP accepts test reports from certified first (where the laboratory is operated by the manufacturer), second (where the laboratory is operated by the Federal government), and third party laboratories (where the laboratory is operated by an independent party).

Products are tested for performance, conformance, and interoperability. The relevant technical requirements and test methods have been selected by P25 CAP, and the currently accredited laboratories have been assessed for their competence to test to specific or all of the test criteria. The current P25 CAP laboratory recognition process is detailed in NIST Handbook 153.

Eight test laboratories are currently accredited under P25 CAP. P25 CAP has informed these eight laboratories that they may be required to seek re-accreditation from any DHS-identified designated laboratory accreditation body(ies) in order to maintain their P25 CAP accreditation. The P25 CAP will consider accreditation organizations for participation and will recognize laboratories appropriately-accredited by any DHS-identified designated accreditation bodies. P25 CAP has developed a transition plan that will allow time for DHS-designated laboratory accreditation body(ies) to develop and offer an accreditation program for P25 CAP testing. This transition program may include appropriate workshops for interested parties, i.e., candidate laboratories, radio manufacturers, and others.

Expressions of Interest

Laboratory accreditation bodies are invited to respond to this notice with an expression of interest, including (1) the name of organization; (2) a contact person; (3) telephone number; and (4) email address.

Laboratory accreditation bodies participating in the P25 CAP program will be required to: (a) Maintain their ILAC MRA Signatory status; (b) Nominate subject matter expert assessors; (c) Participate in P25-provided training activities, and (d) Accredit laboratories to the requirements of ISO/IEC 17025, the international standard for requirement for competence of testing and calibration laboratories, and P25 CAP specific requirements.

A responding laboratory accreditation body should also discuss its: (e) Access to assessors with expertise in areas relevant to the P25 standard; (f) Prior experience with similar technologies; and (g) Accreditation of one or more of the currently designated laboratories for similar technologies.

Expressions of Interest should note the FRN docket number in the subject line and be no longer than 10 pages. They the above factors and be submitted to SandTFRG@hq.dhs.gov. Responses to this notice will be acknowledged by DHS. Information obtained as a result of this notice will be used as considerations for the restructuring of the P25 CAP.

Interested parties should avoid including any business confidential or proprietary information in its expression of interest. If such information must be included, it should be clearly marked and the interested party must provide justification as to why such information is confidential and/or proprietary. DHS will handle such information in accordance with the Freedom of Information Act (5 U.S.C. 552).

This Request for Expressions of Interest is for information and planning purposes only. It is not a broad agency announcement, Request for Proposals or Quotations, or other form of solicitation for bids, and it is not a commitment or obligation by DHS to make award of any contractual instrument or make any payment. The cost for the preparation and submission of a response to this notice is solely the responsibility of the interested party. DHS will make no payment(s) associated with this Request for Expressions of Interest.

Additional information can be found at:

Project 25: http://www.safecomprogram.gov/currentprojects/project25.

Project 25 Compliance Assessment Program and Compliance Assessment Bulletins: http://www.safecomprogram.gov/currentprojects/project25cap.

NIST Handbook 153: http://www.safecomprogram.gov/SiteCollectionDocuments/NISTHandbook1532009REVEdition_16Jul09.pdf.

P25 CAP Laboratory Recognition (eight laboratories and their scopes of recognition): http://www.safecomprogram.gov/currentprojects/project25cap/webpages/lr.aspx.

FEMA Responder Knowledge Base: https://www.rkb.us.

Dated: April 12, 2013.
Tara O'Toole,
Under Secretary for Science and Technology.

[FR Doc. 2013-09805 Filed 4-24-13; 8:45 am]

BILLING CODE 9110-9F-P